NUCLEAR REGULATORY COMMISSION

[NRC-2009-0106]

Withdrawal of Proposed Regulatory Issue Summary; Implementation of New Final Rule, Protection of Safeguards Information

AGENCY: Nuclear Regulatory Commission.

ACTION: Withdrawal of Proposed Regulatory Issue Summary (RIS) “Implementation of New Final Rule, Protection of Safeguards Information.”

FOR FURTHER INFORMATION CONTACT: Robert Norman at 301-415-2278 or by e-mail at Robert.Norman@nrc.gov.

SUPPLEMENTARY INFORMATION:

I. Introduction

The U.S. Nuclear Regulatory Commission (NRC) is withdrawing draft Regulatory Issue Summary (RIS) “Implementation of New Final Rule, Protection of Safeguards Information” published March 12, 2009 (74 FR 10786). This draft RIS provided stakeholders information concerning the changes to Title 10 of the Code of Federal Regulations (10 CFR) Parts 73.21, 73.22 and 73.23. This draft RIS provided clarifying information of the impact of the new rule (effective date February 23, 2009). The NRC will not pursue finalizing the draft RIS because the NRC has issued Draft Regulatory Guide (DG-5034) in the Federal Register for public comment (74 FR 39343, 39354) to assist licensees in meeting the requirements of 10 CFR 73.21, 73.22, and 73.23. Therefore, the RIS is no longer needed.

II. Further Information

Regulatory guides are the preferred method to disseminate guidance information and are available for inspection or downloading through the NRC's public Web site under “Regulatory Guides” in the NRC's Electronic Reading Room at http://www.nrc.gov/reading-rm/doccollections. Regulatory guides are also available for inspection at the NRC's Public Document Room (PDR), Room O-1 F21, One White Flint North, 11555 Rockville Pike, Rockville, MD 20852-2738. The PDR's mailing address is US NRC PDR, Washington, DC 20555-0001. The PDR staff can be reached by telephone at 301-415-4737 or 800-397-4209, by fax at 301-415-3548, and by e-mail to pdr.resource@nrc.gov.

Regulatory guides are not copyrighted, and NRC approval is not required to reproduce them.

Dated at Rockville, Maryland, this 1st day of September 2009.
For the Nuclear Regulatory Commission.
Martin C. Murphy,
Chief, Generic Communications Branch, Division of Policy and Rulemaking, Office of Nuclear Reactor Regulation.

[FR Doc. E9-21694 Filed 9-8-09; 8:45 am]

BILLING CODE 7590-01-P